NATIONAL LABOR RELATIONS BOARD

Sunshine Act Meeting

Time and Date: Thursday, May 6, 2010, immediately following the previously announced meeting at 2:30 p.m.

Place: Board Agenda Room, No. 11820, 1099 14th St., NW., Washington DC 20570.

Status: Closed.

Matters to be Considered: Pursuant to § 102.139(c)(2) of the Board's Rules and Regulations, the Board or a panel thereof will consider “internal personnel rules and practices.” See also 5 U.S.C. 552b(c)(2).

By unanimous vote on May 6, 2010, the National Labor Relations Board voted to meet to consider internal personnel rules and practices. The Board determined that, pursuant to § 102.139(c)(2) of the Board's Rules and Regulations and 5 U.S.C. 552b(c)(2), this portion of the meeting is exempt from the open meeting requirement of the Government in the Sunshine Act, and that the public interest does not require that the meeting be open to public observation. The Board also determined, by unanimous vote, that, pursuant to 5 U.S.C. 552b(e)(1), agency business required that this meeting be called without seven days' public notice of the meeting.

In accordance with 5 U.S.C. 552b(f)(1), the Solicitor of the National Labor Relations Board has certified that in his opinion the meeting may properly be closed to public observation pursuant to 5 U.S.C. 552b(c)(2) and § 102.139(c)(2) of the Board's Rules and Regulations.

CONTACT PERSON FOR MORE INFORMATION: Lester A. Heltzer, Executive Secretary, (202) 273-1067.

Lester A. Heltzer,
Executive Secretary.

[FR Doc. 2010-11355 Filed 5-7-10; 4:15 pm]

BILLING CODE 7545-01-P